DEPARTMENT OF DEFENSE

Office of the Secretary

Meeting of the Defense Policy Board Advisory Committee

AGENCY: Department of Defense, Defense Policy Board Advisory Committee

ACTION: Notice.

SUMMARY: The Defense Policy Board Advisory Committee will meet in closed session on December 11, 2007 from 0800 hrs until 2030 and December 12, 2007 from 0730 hrs until 1430 at the Pentagon.

The purpose of the meeting is to provide the Secretary of Defense, Deputy Secretary of Defense and Under Secretary of Defense for Policy with independent, informed advice on major matters of defense policy. The Board will hold classified discussions on national security matters.

In accordance with Section 10(d) of the Federal Advisory Committee Act, Public Law No. 92-463, as amended [5 U.S.C. 552B(c)(1)(1982)], and that accordingly this meeting will be closed to the public.

Dated: November 14, 2007.
L.M. Bynum,
Alternate OSD Federal Register Liaison Officer, Department of Defense.

[FR Doc. 07-5755 Filed 11-19-07; 8:45 am]

BILLING CODE 5000-06-M